DEPARTMENT OF ENERGY

Federal Energy Regulatory Commission

[Docket No. RM02-16-000]

Integrated Licensing Process Outreach; Notice of Public Outreach Meeting on the Integrated Licensing Process

October 15, 2003.

Commission staff from the Office of Energy Projects will hold a public Outreach Meeting on the new Integrated Licensing Process at the location and time listed below. The purpose of the Outreach program is to familiarize licensees, federal, state, and other government agencies, Indian tribes, nongovernmental organizations, and other interested parties with the new Integrated Licensing Process set forth by Order Number 2002, issued on July 23, 2003.

Location | Date/time
Washington, D.C., Federal Energy Regulatory Commission 888 First Street, NE., Washington DC 20426 | November 5, 2003, 1 p.m. to 5 p.m.

All interested parties are invited to attend. If you plan to attend, please contact Ken Hogan at 202-502-8434 or David Turner at (202) 502-6091. This meeting is posted on the Commission's calendar located at http://www.ferc.gov/EventCalendar/EventsList.aspx along with other related information.

Linda Mitry,
Acting Secretary.

[FR Doc. E3-00086 Filed 10-21-03; 8:45 am]

BILLING CODE 6717-01-P